ENVIRONMENTAL PROTECTION AGENCY

[FRL-8971-2]

Agency Information Collection Activities; OMB Responses

AGENCY: Environmental Protection Agency (EPA).

ACTION: Notice.

SUMMARY: This document announces the Office of Management and Budget (OMB) responses to Agency Clearance requests, in compliance with the Paperwork Reduction Act (44 U.S.C. 3501 et seq.). An agency may not conduct or sponsor, and a person is not required to respond to, a collection of information unless it displays a currently valid OMB control number. The OMB control numbers for EPA regulations are listed in 40 CFR part 9 and 48 CFR chapter 15.

FOR FURTHER INFORMATION CONTACT: Rick Westlund (202) 566-1682, or e-mail at westlund.rick@epa.gov and please refer to the appropriate EPA Information Collection Request (ICR) Number.

SUPPLEMENTARY INFORMATION:

OMB Responses to Agency Clearance Requests

OMB Approvals

EPA ICR Number 1884.04; Partial Update of the TSCA Section 8(b) Inventory Data Base, Production and Site Reports; 40 CFR part 710; was approved on 09/17/2009; OMB Number 2070-0162; expires on 09/30/2012; Approved without change.

EPA ICR Number 2034.04; NESHAP for the Wood Products Surface Coating Industry; 40 CFR part 63, subpart A and 40 CFR part 63, subpart QQQQ; was approved on 09/22/2009; OMB Number 2060-0510; expires on 09/30/2012; Approved without change.

EPA ICR Number 1712.06; NESHAP for Shipbuilding and Ship Repair Facilities—Surface Coating; 40 CFR part 63, subpart A and 40 CFR part 63, subpart II; was approved on 09/22/2009; OMB Number 2060-0330; expires on 09/30/2012; Approved without change.

EPA ICR Number 2032.06; NESHAP for Hydrochloric Acid Production; 40 CFR part 63, subpart A and 40 CFR part 63, subpart NNNNN; was approved on 09/22/2009; OMB Number 2060-0529; expires on 09/30/2012; Approved without change.

EPA ICR Number 1899.05; Emission Guidelines for Hospital/Medical/Infectious Waste Incinerators; 40 CFR part 60, subpart A, 40 CFR part 60, subpart Ce, and 40 CFR part 62, subpart HHH, was approved on 09/27/2009; OMB Number 2060-0422; expires on 09/30/2012; Approved with change.

EPA ICR Number 1803.07; Drinking Water State Revolving Fund Program; 40 CFR 35.3545, 35.3550, and 35.3570; was approved on 09/30/2009; OMB Number 2040-0185; expires on 02/28/2010; Approved with change.

EPA ICR Number 1391.09; Clean Water Act State Revolving Fund Program; 40 CFR part 35, subpart K; was approved on 09/30/2009; OMB Number 2040-0118; expires on 12/31/2011; Approved with change.

EPA ICR Number 0938.17; General Administrative Requirements for Assistance Programs; 40 CFR parts 30 and 31; was approved on 09/30/2009; OMB Number 2030-0020; expires on 04/30/2012; Approved with change.

OMB Number Transfers

EPA ICR Number 1363.18; Toxic Chemical Release Reporting (Form R); 40 CFR part 372; the OMB number was changed from 2070-0093 to 2025-0009 on 09/16/2009.

EPA ICR Number 1704.10; Toxic Chemical Release Reporting, Alternate Threshold for Low Annual Reportable Amounts (Form A); 40 CFR part 372; the OMB number was changed from 2070-0143 to 2025-0010 on 09/16/2009.

Dated: October 13, 2009.
John Moses,
Director, Collections Strategies Division.

[FR Doc. E9-25365 Filed 10-20-09; 8:45 am]

BILLING CODE 6560-50-P